DEPARTMENT OF HEALTH AND HUMAN SERVICES

Health Resources and Services Administration

Agency Information Collection Activities: Proposed Collection: Public Comment Request Information Collection Request Title: Hospital Campaign for Organ Donation Scorecard, OMB No. 0915-0373—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this Information Collection Request must be received no later than August 23, 2022.

ADDRESSES: Submit your comments to paperwork@hrsa.gov or mail the HRSA Information Collection Clearance Officer, Room 14N136B, 5600 Fishers Lane, Rockville, MD 20857.

FOR FURTHER INFORMATION CONTACT: To request more information on the proposed project or to obtain a copy of the data collection plans and draft instruments, email paperwork@hrsa.gov or call Samantha Miller, the acting HRSA Information Collection Clearance Officer at (301) 443-9094.

SUPPLEMENTARY INFORMATION: When submitting comments or requesting information, please include the information request collection title for reference.

Information Collection Request Title: Hospital Campaign for Organ Donation Scorecard OMB No. 0915-0373—Revision.

Abstract: HRSA's Hospital Campaign for Organ Donation continues to enlist the help of healthcare organizations nationwide to increase the number of registered organ, eye, and tissue donors by hosting education, outreach, and donor registration events in their facilities and communities. A scorecard identifies activities that participants can implement and assigns points to each activity. Participants that earn a certain number of points annually are recognized by HRSA and the campaign's national partners.

Need and Proposed Use of the Information: There is a substantial imbalance in the U.S. between the more than 106,000 people whose lives depend on organ transplants and the annual number of organ donors (approximately 18,000 living and deceased donors). This imbalance results in approximately 17 deaths per day; about 6,200 waiting list deaths annually. In addition, a person in need of a life-saving or life-improving organ transplant is added to the national organ transplant waiting list every 9 minutes. In response to the need for increased donation, HRSA conducts public outreach initiatives to encourage the American public to enroll on state donor registries as future organ donors.

The scorecard motivates and facilitates participation in the campaign, provides the basis for rewarding participants for their accomplishments, and enables HRSA to measure and evaluate campaign process and outcome. The scorecard also enables HRSA to make data-based decisions and improvements for subsequent campaigns.

Likely Respondents: Hospital development and public relations staff of organ procurement and other donation organizations; hospital staff such as nurses or public relations/communications professionals and staff members. Additional respondents may include staff at physician's offices, health clinics, and emergency medical services; and/or volunteers that specifically work with health care organizations on organ donation initiatives and activities, who may have been engaged by or invited through word-of-mouth, local organ procurement organizations, and/or peers, and/or who work within a medical and/or health care setting, but outside of a hospital environment.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Activity Scorecard (online) | 1,640 | 1 | 1,640 | .25 | 410
Total | 1,640 |  | 1,640 |  | 410

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2022-13488 Filed 6-23-22; 8:45 am]

BILLING CODE 4165-15-P